DEPARTMENT OF ENERGY

Federal Energy Regulatory Commission

Combined Notice of Filings # 1

May 22, 2008.

Take notice that the Commission received the following electric rate filings:

Docket Numbers: ER96-719-021; EL05-59-004.

Applicants: MidAmerican Energy Company.

Description: MidAmerican Energy Company submits its Refund Report in compliance with the Commission's 4/4/08 Order.

Filed Date: 05/15/2008.

Accession Number: 20080521-0078.

Comment Date: 5 p.m. Eastern Time on Thursday, June 05, 2008.

Docket Numbers: ER96-1551-020; ER01-615-016; ER07-965-002.

Applicants: Public Service Company of New Mexico; EnergyCo Marketing and Trading, LLC.

Description: Public Service Company of New Mexico et al. submits revised market-based rate tariffs and tariffs for the sale of capacity and energy subject to cost-based rate caps.

Filed Date: 05/15/2008.

Accession Number: 20080521-0080.

Comment Date: 5 p.m. Eastern Time on Thursday, June 5, 2008.

Docket Numbers: ER00-1053-021.

Applicants: Maine Public Service Company.

Description: Maine Public Service Co submits the Settlement Agreement re its 2007 Informational Filing.

Filed Date: 05/19/2008.

Accession Number: 20080521-0130.

Comment Date: 5 p.m. Eastern Time on Monday, June 9, 2008.

Docket Numbers: ER05-1056-003; ER06-1548-001.

Applicants: Chehalis Power Generating, L.P.

Description: Chehalis Power Generating, LP submits its compliance filing of its revised Rate Schedule FERC 2.

Filed Date: 05/19/2008.

Accession Number: 20080521-0133.

Comment Date: 5 p.m. Eastern Time on Monday, June 9, 2008.

Docket Numbers: ER06-95-002.

Applicants: Pacific Gas and Electric Company.

Description: Compliance Refund Report (Compliance Only) of Pacific Gas & Electric Company.

Filed Date: 02/04/2008.

Accession Number: 20080204-5038.

Comment Date: 5 p.m. Eastern Time on Monday, June 2, 2008.

Docket Numbers: ER06-615-023; ER07-1257-005.

Applicants: California Independent System Operator Corporation.

Description: California Independent System Operator Corp submits a compliance filing in compliance with FERC's 3/24/08 Order.

Filed Date: 05/19/2008.

Accession Number: 20080521-0134.

Comment Date: 5 p.m. Eastern Time on Monday, June 9, 2008.

Docket Numbers: ER08-852-001.

Applicants: Glacial Energy Holdings.

Description: Glacial Energy Holdings submits an amendment to the 4/18/08 application.

Filed Date: 05/20/2008.

Accession Number: 20080521-0132.

Comment Date: 5 p.m. Eastern Time on Tuesday, June 10, 2008.

Docket Numbers: ER08-980-000.

Applicants: Alliant Energy Corporate Services, Inc.

Description: Alliant Energy Corporate Services, Inc submits a Wholesale Power Supply Agreement with Jo-Carroll Energy, Inc.

Filed Date: 05/19/2008.

Accession Number: 20080521-0135.

Comment Date: 5 p.m. Eastern Time on Monday, June 9, 2008.

Docket Numbers: ER08-981-000.

Applicants: Puget Sound Energy, Inc.

Description: Puget Sound Energy, Inc submits FERC Electric Rate Schedule, Fourth Revised Volume 8 etc.

Filed Date: 05/19/2008.

Accession Number: 20080521-0136.

Comment Date: 5 p.m. Eastern Time on Monday, June 9, 2008.

Docket Numbers: ER08-982-000.

Applicants: PJM Interconnection, L.L.C.

Description: PJM Interconnection, LLC submits an executed Interconnection Service Agreement with Forked River Power LLC et al.

Filed Date: 05/19/2008.

Accession Number: 20080521-0137.

Comment Date: 5 p.m. Eastern Time on Monday, June 9, 2008.

Docket Numbers: ER08-983-000.

Applicants: Southwest Power Pool, Inc.

Description: Southwest Power Pool, Inc submits an executed Service Agreement for Network Integration Transmission Service with City of Coffeyville, KS.

Filed Date: 05/19/2008.

Accession Number: 20080521-0138.

Comment Date: 5 p.m. Eastern Time on Monday, June 9, 2008.

Docket Numbers: ER08-985-000.

Applicants: New York Independent System Operator, In.

Description: National Grid USA Service Company, Inc et al. submit an executed Small Generator Interconnection Agreement among NYISO, National Grid, and Innovative Energy Systems, Inc.

Filed Date: 05/19/2008.

Accession Number: 20080521-0140.

Comment Date: 5 p.m. Eastern Time on Monday, June 9, 2008.

Docket Numbers: ER08-986-000.

Applicants: American Electric Power Service Corporation.

Description: American Electric Power Service Corp submits a notice of cancellation of a firm point-to-point transmission service agreement with City of Coffeyville, Kansas.

Filed Date: 05/19/2008.

Accession Number: 20080521-0141.

Comment Date: 5 p.m. Eastern Time on Monday, June 9, 2008.

Docket Numbers: ER08-987-000.

Applicants: Pacific Gas and Electric Company.

Description: Pacific Gas and Electric Co submits a Service Agreement for Wholesale Distribution Service and Interconnection Agreement with McAllister Ranch Irrigation District.

Filed Date: 05/19/2008.

Accession Number: 20080521-0142.

Comment Date: 5 p.m. Eastern Time on Monday, June 9, 2008.

Docket Numbers: ER08-988-000.

Applicants: Westar Energy, Inc.

Description: Westar Energy, Inc and the Kansas Gas and Electric Co submits Second Revised Sheet 11 and 1 to the Wholesale Electric Service Agreement commencing 2/1/88, designated as First revised Rate Schedule 171.

Filed Date: 05/19/2008.

Accession Number: 20080521-0143.

Comment Date: 5 p.m. Eastern Time on Monday, June 9, 2008.

Docket Numbers: ER08-989-000.

Applicants: Westar Energy, Inc.

Description: Westar Energy Inc submits Petition for Approval of Settlement Agreement.

Filed Date: 05/19/2008.

Accession Number: 20080521-0144.

Comment Date: 5 p.m. Eastern Time on Monday, June 9, 2008.

Take notice that the Commission received the following open access transmission tariff filings:

Docket Numbers: OA08-117-000.

Applicants: Avista Corporation.

Description: Avista Corp submits an informational filing of Operational Penalty Assessments and Distributions as required by Order 890 and 890-A.

Filed Date: 05/19/2008.

Accession Number: 20080521-0127.

Comment Date: 5 p.m. Eastern Time on Monday, June 9, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, D.C. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-12039 Filed 5-29-08; 8:45 am]

BILLING CODE 6717-01-P